DEPARTMENT OF HEALTH AND HUMAN SERVICES

Centers for Disease Control and Prevention

[30-Day-10-0783]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Evaluation of Safe Dates Project—(OMB No. 0920-0783 exp. 6/30/2011)—Revision—National Center for Injury Prevention and Control (NCIPC), Centers for Disease Control and Prevention (CDC).

Background and Brief Description

Safe Dates, a dating violence prevention curriculum for 8th and 9th grade students, has been shown to be effective at preventing victimization and perpetration of teen dating violence in one rural North Carolina school district, but appropriateness of the program with urban, high-risk adolescents is unknown. CDC has learned additional information about violence and risk factors for adolescents in urban, high-risk communities since the original OMB clearance package was submitted. Recent research also has shown that adolescents who live in urban, disadvantaged communities report significantly higher prevalence of some risky behaviors, including violence, than nationally representative U.S. adolescents (Swahn & Bossarte, 2009). To assess whether Safe Dates should be modified for urban, high-risk adolescents, CDC requests OMB approval to conduct focus groups with students and interviews with teachers at urban schools in the 2010-2011 school year. Data collection staff will use new interview guides designed for this purpose. The data collection will require participation from teachers at eight schools who delivered the Safe Dates program and students at one school who received the program. Qualitative data will be collected through student focus groups and teacher interviews. Students will complete a participant profile form to capture basic demographic information. Approximately 40 students at one school will participate in focus groups. Two focus groups will consist of 8-10 boys, and two focus groups will include 8-10 girls. Informed written consent from parents for each student's participation and informed written assent from tenth graders for their own participation will be obtained. Twenty teachers will participate in interviews. Students and teachers will be asked about their experiences with the Safe Dates program and ideas they may have about adapting the program for urban schools.

There is no cost to respondents other than their time. The total estimated annual burden hours are 14,193.

Estimated Annualized Burden Hours
Type of respondent | Form name | No. of respondents | No. of responses per respondent | Average burden per response (in hours)
Student | Student Effectiveness Baseline Survey | 10,158 | 1 | 35/60
| 1st Student mid-implementation survey | 3,612 | 1 | 25/60
| 2nd Student mid-implementation survey | 3,612 | 1 | 25/60
| Student Effectiveness Follow-up Survey | 8,126 | 1 | 35/60
Principal | Baseline principal survey | 49 | 1 | 15/60
| Mid-implementation principal survey | 32 | 1 | 15/60
| End-of-school-year principal survey | 49 | 1 | 15/60
Student (new instrument) | Student Focus Group Guide (student demographic data and focus group questions) | 40 | 1 | 1.5
Prevention coordinator | Baseline prevention coordinator survey | 49 | 1 | 15/60
| Mid-implementation prevention coordinator survey | 32 | 1 | 15/60
| End-of-school-year prevention coordinator survey | 49 | 1 | 15/60
| Follow-up prevention coordinator survey | 49 | 1 | 5/60
Teacher | Baseline teacher survey | 98 | 1 | 15/60
| Teacher Cost survey | 49 | 11 | 20/60
| Fifth session mid-implementation survey | 98 | 2 | 25/60
| Ninth session mid-implementation survey | 98 | 2 | 25/60
Teacher (new instrument) | Teacher Interview Guide | 20 | 1 | 1

Dated: September 17, 2010.
Maryam I. Daneshvar,
Reports Clearance Officer, Centers for Disease Control and Prevention.

[FR Doc. 2010-23872 Filed 9-22-10; 8:45 am]

BILLING CODE 4163-18-P